CORPORATION FOR NATIONAL AND COMMUNITY SERVICE

Proposed Information Collection: Submission for OMB Review; Comment Request

AGENCY: Corporation for National and Community Service.

ACTION: Notice.

SUMMARY: The Corporation for National and Community Service (hereinafter the “Corporation”) will submit a public information collection request (ICR) on the revised Senior Corps Grant Application to the Office of Management and Budget (OMB) for review and approval in accordance with the Paperwork Reduction Act of 1995 (Pub. L. 104-13, (44 U.S.C. Chapter 35) 30 days after this Notice is printed in the Federal Register, thereby providing an 30 extra days for public comment prior to providing OMB with the ICR.

Copies of the revised Grant Application may be obtained by calling the Corporation for National Service, Peter L. Boynton, (202) 606-5000, extension 499. Individuals who use a telecommunications device for the deaf (TTY-TDD) may call (202) 565-2799 between 8:30 a.m. and 5 p.m. Eastern time, Monday through Friday. Comments should be sent to the Office of Information and Regulatory Affairs, Attn: OMB Desk Officer for the Corporation for National and Community Service, Office of Management and Budget, Room 10235, Washington, D.C. 20503, (202) 395-7316, within 60 days from the date of this publication in the Federal Register.

The OMB is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and

• Minimize the burden of the collection of information to those who are to respond, including through the use of appropriate automated, electronic, mechanical, or other technological collection techniques or other forms of information technology, e.g. permitting electronic submissions of responses.

Type of Review: Renewal.

Agency: Corporation for National and Community Service.

Title: National Senior Service Corps Grant Application.

OMB Number: 3045-0035.

Agency Number: 424-NSSC.

Affected Public: Prospective Sponsors for National Senior Service Corps Grants.

Total Respondents: Estimated at 1,513 annually.

Frequency: Annually, with exceptions.

Estimated Time Per Respondent: Averages 13.2 hours. Estimated at 16.5 hours for first-time respondents, 15 hours for continuation sponsors, and 5 hours for revisions.

Estimated Annual Reporting or Disclosure Burden: 20,027 hours.

Total Annualized Capital/Startup Costs: None.

Total Annualized Burden Costs: $6,497.

Description: The National Senior Service Corps Grant Application is submitted by prospective grantees to apply for sponsorship of projects under the Retired and Senior Volunteer Program (RSVP), Foster Grandparent Program (FGP), Senior Companion Program (SCP, and Senior Demonstration Program (SDP), collectively known as the Senior Corps. Completion of the Grant Application is required to obtain sponsorship.

In August 2000, the National Senior Service Corps (Senior Corps) announced a 60-day review and comment period, ending October 10, 2000, during which project sponsors and the public were encouraged to submit comments on revising the current Grant Application (424-NSSC) in order to:

(1) reflect evolution in programming that places greater emphasis on measurable Accomplishments and impact in the community and meeting the requirements of the Government Performance and Results Act (GPRA);

(2) streamline the instructions for greater clarity and ease of completion;

(3) eliminate redundant or unused sections and/or pages, such as the Five Element Statement page;

(4) standardize submission of certain types of information, such as the Active Volunteer Station Lists;

(5) strengthen the project work plan as a more comprehensive planning and reporting tool; and

(6) update current page 13 (NSSC 3-Digit Issue Area and Service Category Codes).

Twelve comments were received from over 1,300 existing Senior Corps projects and the public. As many of the comments as feasible were incorporated into the revised Grant Application. Key changes made in the application include the following:

(1) clarification of general instructions and Part IV, Attachments, with special attention to requirements for new projects and continuation projects;

(2) revision of the budget page and corresponding instructions;

(3) revision of Part III, Project Narrative and Workplans to relate the workplan more clearly to programming emphases;

(4) elimination of all references to a Five Element Statement;

(5) standardization of the Active Volunteer Station list; and

(6) updating of the NSSC 3-Digit Issue Area and Service Category Codes.

Once approved by OMB, the revised Grant Application will be completed by all public and private, non-profit organizations applying for National Senior Service Corps funds. The anticipated implementation schedule calls for the revised Grant Application to be used with grants having a start date of July 1, 2001, or thereafter.

Dated: December 20, 2000.
Tess Scannell,
Acting Director, National Senior Service Corps.

[FR Doc. 00-32840 Filed 12-22-00; 8:45 am]

BILLING CODE 6050-28-P